DEPARTMENT OF LABOR

Employment and Training Administration

[NAFTA-5247]

Fedders Corporation, Columbia Specialities, Inc., Columbia, Tennessee; Notice of Termination of Investigation

Pursuant to Title V of the North American Free Trade Agreement Implementation Act (Pub. L. 103-182) concerning transitional adjustment assistance, hereinafter called (NAFTA-TAA), and in accordance with section 250(a), subchapter D, Chapter 2, Title II, of the Trade Act of 1974, as amended (19 U.S.C. 2273), an investigation was initiated on August 20, 2001, in response to a petition filed on behalf of workers at Fedders Corporation, Columbia Specialities, Inc., Columbia, Tennessee.

The petitioners requested that the petition for NAFTA-TAA be withdrawn. Consequently, further investigation in this case would serve no purpose, and the investigation has been terminated.

Signed at Washington, DC, this 29th day of November 2001.
Linda G. Poole,
Certifying Officer, Division of Trade Adjustment Assistance.

[FR Doc. 01-31144 Filed 12-17-01; 8:45 am]

BILLING CODE 4510-30-M